DEPARTMENT OF HOMELAND SECURITY

Coast Guard

33 CFR Part 117

[USCG-2013-0395]

Drawbridge Operation Regulations; Connecticut River, Westport, CT

AGENCY: Coast Guard, DHS.

ACTION: Notice of temporary deviation from regulations.

SUMMARY: The Commander, First Coast Guard District, has issued a temporary deviation from the regulation governing the operation of the Route 82 Bridge across the Connecticut River, mile 16.8, between East Haddam and Haddam, Connecticut. The deviation is necessary to facilitate public safety during a public event, the bridge's 100th Anniversary Parade. Under this temporary deviation, the bridge may remain closed for two and one half hours.

DATES: This deviation is effective between 8 a.m. and 10:30 a.m. on June 15, 2013.

ADDRESSES: The docket for this deviation, [USCG-2013-0395] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Barbara Hairston, Program Manager, Docket Operations, telephone 202-366-9826.

SUPPLEMENTARY INFORMATION: The Route 82 Bridge has a vertical clearance of 22 feet at mean high water and 25 feet at mean low water in the closed position. The existing drawbridge operating regulations are found at 33 CFR 117.205(c).

The bridge owner, Connecticut Department of Transportation, requested a two and a half hour closure to facilitate public safety during a public event, the 100th Anniversary Parade at the bridge.

Under this temporary deviation the bridge may remain in the closed position between 8 a.m. and 10:30 a.m. on June 15, 2013. Vessels that can pass under the bridge without a bridge opening may do so at all times.

The Connecticut River supports both commercial and recreational navigation of various sizes.

In accordance with 33 CFR 117.35(e), the bridge must return to its regular operating schedule immediately at the end of the designated deviation period. This deviation from the operating regulations is authorized under 33 CFR 117.35.

Dated: June 4, 2013.
Gary Kassof,
Bridge Program Manager, First Coast Guard District.

[FR Doc. 2013-14123 Filed 6-13-13; 8:45 am]

BILLING CODE 9110-04-P